DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 219-9657. For information on HRSA's role in the Program, contact the Director, National Vaccine Injury Compensation Program, 5600 Fishers Lane, Room 16C-17, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at section 2114 of the PHS Act or as set forth at 42 CFR 100.3, as applicable. This Table lists for each covered childhood vaccine the conditions which will lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on October 1, 2003, through December 31, 2003.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Vaccine Injury Table but which was caused by” one of the vaccines referred to in the Table, or

(b) “Sustained, or had significantly aggravated, any illness, disability, injury, or condition set forth in the Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading FOR FUTHER INFORMATION CONTACT), with a copy to HRSA addressed to Director, Division of Vaccine Injury Compensation Program, Special Programs Bureau, 5600 Fishers Lane, Room 16C-17, Rockville, MD 20857. The Court's caption (Petitioner's Name v. Secretary of Health and Human Services) and the docket number assigned to the petition should be used as the caption for the written submission.

Chapter 35 of title 44, United States Code, related to paperwork reduction, does not apply to information required for purposes of carrying out the Program.

List of Petitions

1. Laura Griffin on behalf of Cory Griffin, Boston, Massachusetts, Court of Federal Claims Number 03-2266V

2. Mary Parfait on behalf of William Parfait, Boston, Massachusetts, Court of Federal Claims Number 03-2267V

3. Melissa Felsch on behalf of Hannah Felsch, Boston, Massachusetts, Court of Federal Claims Number 03-2268V

4. Shauna Dawley on behalf of Andrew Dawley, Boston, Massachusetts, Court of Federal Claims Number 03-2269V

5. Autumn Beardsley on behalf of Kendall Beardsley, Boston, Massachusetts, Court of Federal Claims Number 03-2270V

6. Beverly and Charles Cox on behalf of Nasya Cox, Houston, Texas, Court of Federal Claims Number 03-2275V

7. Carolyn and Elton Green on behalf of Michael Green, Houston, Texas, Court of Federal Claims Number 03-2276V

8. Michelle Rolfson on behalf of Tyler Robert Rolfson, Houston, Texas, Court of Federal Claims Number 03-2277V

9. Jennifer James on behalf of Tyrese James, Houston, Texas, Court of Federal Claims Number 03-2278V

10. Erica McDowell on behalf of Jerica McDowell, Houston, Texas, Court of Federal Claims Number 03-2279V

11. Brandon Lowery on behalf of Vicky Lowery, Vienna, Virginia, Court of Federal Claims Number 03-2280V

12. Susan and August Tomelleri on behalf of August Tomelleri, Vienna, Virginia, Court of Federal Claims Number 03-2281V

13. Kimberly and Joseph Piro on behalf of James Piro, New York, New York, Court of Federal Claims Number 03-2282V

14. Julie Burke and James Donnelly on behalf of Christian Donnelly, New York, New York, Court of Federal Claims Number 03-2283V

15. Frances Talley and Dimitrios Karamitsos on behalf of Konstantinos Karamitsos, New York, New York, Court of Federal Claims Number 03-2284V

16. Deanna and Richard Gadjen on behalf of Jesse Gadjen, New York, New York, Court of Federal Claims Number 03-2285V

17. Kimberley Schank on behalf of Dallas Schank, New York, New York, Court of Federal Claims Number 03-2286V

18. Lisa and Robert Stitzel on behalf of Robert Austin Stitzel, New York, New York, Court of Federal Claims Number 03-2287V

19. Tanya Blair on behalf of Celine Vandervoort, New York, New York, Court of Federal Claims Number 03-2288V

20. Lisa Lewin-Gay and Carl Gay on behalf of Christian Gay, New York, New York, Court of Federal Claims Number 03-2289V

21. Kaycie Smith on behalf of Garrison Smith, Dallas, Texas, Court of Federal Claims Number 03-2290V

22. Lisa Dawn Taylor on behalf of Collin Ty Taylor, Tyler, Texas, Court of Federal Claims Number 03-2291V

23. Tricia and James Edwards on behalf of William B. Edwards, Alexandria, Virginia, Court of Federal Claims Number 03-2294V

24. Heidi and Dalton Carder on behalf of Todd Carder, Alexander, Virginia, Court of Federal Claims Number 03-2295V

25. Tina Johnson on behalf of Byron D. Smith Alexandria, Virginia Court of Federal Claims Number 03-2296V

26. Karen Vandermark on behalf of Austen Vandermark, McClure, Illinois, Court of Federal Claims Number 03-2297V

27. Linda Garcia and Paul May on behalf of Ian Michael May, Gardena, California, Court of Federal Claims Number 03-2298V

28. Carmen and Craig Carley on behalf of Colin Seamus Carley, Torrance, California, Court of Federal Claims Number 03-2299V

29. Shane Halvorsen on behalf of Nikki Halvorsen, Dover, New Hampshire, Court of Federal Claims Number 03-2300V

30. Penny and Duane Holt on behalf of Rachel Holt, Dover, New Hampshire, Court of Federal Claims Number 03-2301V

31. Jose Carmona on behalf of Katya E. Carmona, Decatur, Texas, Court of Federal Claims Number 03-2302V

32. Patricia and Jay Copeland on behalf of James Copeland, Decatur, Texas, Court of Federal Claims Number 03-2303V

33. Stacy Paquin on behalf of Jay Anthony Dollloff, Decatur, Texas, Court of Federal Claims Number 03-2304V

34. Erika Duree on behalf of Erin Jonathon Duree, Decatur, Texas, Court of Federal Claims Number 03-2305V

35. Mythany Flores on behalf of Broderick Foster, Decatur, Texas, Court of Federal Claims Number 03-2306V

36. Trina Galindo on behalf of Alec Paul Galindo, Decatur, Texas, Court of Federal Claims Number 03-2307V

37. Christy Gallardo on behalf of Diego Silverio Gallardo, Decatur, Texas, Court of Federal Claims Number 03-2308V

38. Christy Gallardo on behalf of Jeremy Christopher Gallardo, Decatur, Texas, Court of Federal Claims Number 03-2309V

39. Milly Lepovitz on behalf of Robert Luis Garcia, Decatur, Texas, Court of Federal Claims Number 03-2310V

40. Bertha and Juan Carlos Garza on behalf of Juan Carlos Garza, II, Decatur, Texas, Court of Federal Claims Number 03-2311V

41. Melinda and Javier Gatica on behalf of Javier Nico Gatica, Decatur, Texas, Court of Federal Claims Number 03-2312V

42. Jennifer Gluth Graham on behalf of Sebastian Gluth Graham, Decatur, Texas, Court of Federal Claims Number 03-2313V

43. Jessica Mast on behalf of Jacob Rossi Hinojosa, Decatur, Texas, Court of Federal Claims Number 03-2314V

44. Jessica Mast on behalf of Jon Daniel Hinojosa, Decatur, Texas, Court of Federal Claims Number 03-2315V

45. Shirley Knight-Henson on behalf of Caleb Knight, Decatur, Texas, Court of Federal Claims Number 03-2316V

46. Tracy Lucio on behalf of Justin Lucio, Decatur, Texas, Court of Federal Claims Number 03-2317V

47. Ursula Mallin on behalf of Hector Mallin, Jr., Decatur, Texas, Court of Federal Claims Number 03-2318V

48. Ursula Mallin on behalf of Luis Alberto Mallin, Decatur, Texas, Court of Federal Claims Number 03-2319V

49. Stacy Moinat on behalf of Mitchell Moinat, Decatur, Texas, Court of Federal Claims Number 03-2320V

50. April and Jesse Overton on behalf of Arianna Overton, Decatur, Texas, Court of Federal Claims Number 03-2321V

51. Nora Pedraza on behalf of Dobie Pedraza, Decatur, Texas, Court of Federal Claims Number 03-2322V

52. Lisa Pedraza on behalf of Jacob Oliva Pedraza, Decatur, Texas, Court of Federal Claims Number 03-2323V

53. Lydia Perez on behalf of Nathaniel Tyler Perez, Decatur, Texas, Court of Federal Claims Number 03-2324V

54. Lydia Perez on behalf of Longino Perez, Decatur, Texas, Court of Federal Claims Number 03-2325V

55. Lydia Perez on behalf of Mario Alberto Perez, Decatur, Texas, Court of Federal Claims Number 03-2326V

56. Nancy G. Pollan on behalf of Joshua Pollan, Decatur, Texas, Court of Federal Claims Number 03-2327V

57. Stacy Royo on behalf of Alexander Julian Royo, Decatur, Texas, Court of Federal Claims Number 03-2328V

58. Mirtal and Jesus Saucedo on behalf of Christian Saucedo, Decatur, Texas, Court of Federal Claims Number 03-2329V

59. David Scott on behalf of Stran Scott, Decatur, Texas, Court of Federal Claims Number 03-2330V

60. Adelia R. Segovia on behalf of Alexander Segovia, Decatur, Texas, Court of Federal Claims Number 03-2331V

61. Michelle Sturgeon on behalf of Coris Brian Sturgeon, Decatur, Texas, Court of Federal Claims Number 03-2332V

62. Deborah and Lloyd Taliaferro on behalf of Alexander Taliaferro, Decatur, Texas, Court of Federal Claims Number 03-2333V

63. Deborah and Lloyd Taliaferro on behalf of Erik Taliaferro, Decatur, Texas, Court of Federal Claims Number 03-2334V

64. Deborah and Lloyd Taliaferro on behalf of Nikita Taliaferro, Decatur, Texas, Court of Federal Claims Number 03-2335V

65. Dominga and Manuel Torres on behalf of Derek Torres, Decatur, Texas, Court of Federal Claims Number 03-2336V

66. Saray Vicencio on behalf of Alexander Vasques, Decatur, Texas, Court of Federal Claims Number 03-2337V

67. Etta J. Villanueva on behalf of Daniel Joseph Villanueva, II, Decatur, Texas, Court of Federal Claims Number 03-2338V

68. Melinda Poist and Cambell Compton on behalf of Jeffrey Compton, Van Nuys, California, Court of Federal Claims Number 03-2341V

69. Joan and Patrick Boyle on behalf of Thomas Joseph Boyle, New York, New York, Court of Federal Claims Number 03-2342V

70. Tania Carter on behalf of Cameron Smith, Atlanta, Georgia, Court of Federal Claims Number 03-2343V

71. Sherry Noles on behalf of Elijah Noles, Atlanta, Georgia, Court of Federal Claims Number 03-2344V

72. Brenda Meeks on behalf of Michael A. Bigglest, Atlanta, Georgia, Court of Federal Claims Number 03-2345V

73. Susan and Frank Iuliano on behalf of Christopher Iuliano, Lake Success, New York, Court of Federal Claims Number 03-2346V

74. Lisa and Patrick DiPippa on behalf of Louis DiPappa, Freehold, New Jersey, Court of Federal Claims Number 03-2347V

75. Narcedalla Ortiz on behalf of Nelson Vega Carachure, Seaford, Delaware, Court of Federal Claims Number 03-2349V

76. Laura Ann Hammers on behalf of Troy Hammers, Bala Cynwyd, Pennsylvania, Court of Federal Claims Number 03-2352V

77. Elizabeth and John Parsons on behalf of Jacob R. Parsons, Broken Arrow, Oklahoma, Court of Federal Claims Number 03-2353V

78. Magaly and Steven Lenker on behalf of Adam Lenker, Towson, Maryland, Court of Federal Claims Number 03-2354V

79. Melissa and Shawn Cook on behalf of Shawn Cook, Jr., New Orleans, Louisiana, Court of Federal Claims Number 03-2355V

80. Meshaunn Reed on behalf of Brandon Poshtkouhi, Boston, Massachusetts, Court of Federal Claims Number 03-2356V

81. Sharon Hill on behalf of Austin Hill, Boston, Massachusetts, Court of Federal Claims Number 03-2357V

82. Janet Latini on behalf of Dominic Latini, Boston, Massachusetts, Court of Federal Claims Number 03-2358V

83. Mary and Larry Woodruff on behalf of Nathan Woodruff, Jacksonville, Florida, Court of Federal Claims Number 03-2364V

84. Virginia Dugger on behalf of Austin Boone, Jacksonville, Florida, Court of Federal Claims Number 03-2365V

85. Harry Hawkins, Bunker Hill, Indiana, Court of Federal Claims Number 03-2366V

86. Rongrong and Daniel Johnson on behalf of James D. Johnson, Towson, Maryland, Court of Federal Claims Number 03-2368V

87. Kathleen and James Mercure on behalf of Jacqueline Mercure, Dallas, Texas, Court of Federal Claims Number 03-2460V

88. Jennifer and Jason Dedonato on behalf of Jared Dedonato, Dallas, Texas, Court of Federal Claims Number 03-2461V

89. Andrea Garcia on behalf of Austin Garcia, Portland, Oregon, Court of Federal Claims Number 03-2462V

90. Sid Leader on behalf of Sam Leader, Portland, Oregon, Court of Federal Claims Number 03-2463V

91. Paula and James Bryant-Trerise on behalf of Faith Bryant-Trerise, Portland, Oregon, Court of Federal Claims Number 03-2464V

92. Mary Buckland and Michael Wagnitz on behalf of Josie Wagnitz, Madison, Wisconsin, Court of Federal Claims Number 03-2465V

93. Angela and Donavon Price on behalf of Nathan Ray Price, Houston, Texas, Court of Federal Claims Number 03-2466V

94. Victoria and Gregory Johnson on behalf of Kennith L. Johnson, Houston, Texas, Court of Federal Claims Number 03-2467V

95. Dremetericus Thurmond on behalf of Demarius Thurmond, Houston, Texas, Court of Federal Claims Number 03-2468V

96. Kim and Mark Brawn on behalf of Zackary Brawn, Buckingham, Pennsylvania, Court of Federal Claims Number 03-2469V

97. Cara Koscinski on behalf of Jacob Koscinski, Boston, Massachusetts, Court of Federal Claims Number 03-2471V

98. Kristin Breslin on behalf of Kara Breslin, Boston, Massachusetts, Court of Federal Claims Number 03-2472V

99. Pamela Wright on behalf of Oscar Wright, Boston, Massachusetts, Court of Federal Claims Number 03-2473V

100. Pamela Wright on behalf of Omar Wright, Boston, Massachusetts, Court of Federal Claims Number 03-2474V

101. Victoria Razzante on behalf of Vincent Razzante, Boston, Massachusetts, Court of Federal Claims Number 03-2475V

102. Suzanne and Joseph McAllister on behalf of Alec Joseph McAllister, Melbourne, Florida, Court of Federal Claims Number 03-2476V

103. Patricia Lee, Sylva, North Carolina, Court of Federal Claims Number 03-2479V

104. Donna and Jeffrey Popp on behalf of Justin Popp, Van Nuys, California, Court of Federal Claims Number 03-2480V

105. Amber Sandifer on behalf of Derric Sandifer, Van Nuys, California, Court of Federal Claims Number 03-2481V

106. Bonnie and Gregory Schmidt on behalf of Andrew Schmidt, Van Nuys, California, Court of Federal Claims Number 03-2482V

107. Donna and Jeffrey Popp on behalf of Joshua Popp, Van Nuys, California, Court of Federal Claims Number 03-2483V

108. Lin Yuan on behalf of Eric Wang, Boston, Massachusetts, Court of Federal Claims Number 03-2486V

109. Anne Hutchinson on behalf of Aaron Hutchinson, Boston, Massachusetts, Court of Federal Claims Number 03-2487V

110. Michelle Redmond on behalf of Trevor Carroll, Jacksonville, Florida, Court of Federal Claims Number 03-2488V

111. Marilyn and Keith York on behalf of Michael York, Vienna, Virginia, Court of Federal Claims Number 03-2490V

112. Trina and Kevin Montgomery on behalf of Keller Montgomery, Vienna, Virginia, Court of Federal Claims Number 03-2491V

113. Melissa Two Bulls on behalf of Kylie Two Bulls, Rapid City, South Dakota, Court of Federal Claims Number 03-2493V

114. Lori and Rich Knowles on behalf of Daniel Knowles, Houston, Texas, Court of Federal Claims Number 03-2494V

115. Sheryl and Bruce Daldrup on behalf of Lauren Daldrup, Dallas, Texas, Court of Federal Claims Number 03-2495

116. Saraswati Mahindrakar and Vinay Doijode on behalf of Rishab Doijode, Dallas, Texas, Court of Federal Claims Number 03-2496V

117. Stephanie and Robert Reis on behalf of Blake Reis, Dallas, Texas, Court of Federal Claims Number 03-2497V

118. Julee Spear on behalf of Keaton Spear, Dallas, Texas, Court of Federal Claims Number 03-2498V

119. Mayela Juarez on behalf of Ignacio Juarez, Palo Alto, California, Court of Federal Claims Number 03-2499V

120. Theresa and John Prego on behalf of Gabrielle Prego, Boston, Massachusetts, Court of Federal Claims Number 03-2501V

121. Patrick Inglis on behalf of Jackson Inglis, Dallas, Texas, Court of Federal Claims Number 03-2502V

122. Fatmeh and Ahmad Shihadeh on behalf of Omar A. Shihadeh, Melbourne, Florida, Court of Federal Claims Number 03-2503V

123. Greg Estes on behalf of Parker Scott Estes, Tyler, Texas, Court of Federal Claims Number 03-2504V

124. Lytress and Ruben Monroe on behalf of Ruben Monroe, Jr., Miami, Florida, Court of Federal Claims Number 03-2506V

125. Paige Stanfield-Myers on behalf of Whitman Stanfield-Myers, Boston, Massachusetts, Court of Federal Claims Number 03-2507V

126. Maira Hildreth on behalf of Megan Hildreth, Boston, Massachusetts, Court of Federal Claims Number 03-2508V

127. Tawnya Bates on behalf of Jayden Bates, Boston, Massachusetts, Court of Federal Claims Number 03-2509V

128. Jeremy Libbey and Christina Putty-Justice on behalf of Kayla Justice, Van Nuys, California, Court of Federal Claims Number 03-2511V

129. Christina Putty-Justice and Jason Triplett on behalf of Brandon Triplett, Van Nuys, California, Court of Federal Claims Number 03-2512V

130. Jodie and Brian Sullivan on behalf of Kyle Sullivan, Baltimore, Maryland, Court of Federal Claims Number 03-2513V

131. Lori and Dale Moore on behalf of Jeremiah Moore, Philadelphia, Pennsylvania, Court of Federal Claims Number 03-2516V

132. Michelle Vanderwey on behalf of Hans Vanderwey, Houston, Texas, Court of Federal Claims Number 03-2517V

133. Mary Pino and Daniel O'Connell on behalf of Aidan O'Connell, Houston, Texas, Court of Federal Claims Number 03-2518V

134. Tammy Lyons on behalf of J.J. Lyons, Houston, Texas, Court of Federal Claims Number 03-2519V

135. Teresa and Ben Price on behalf of Houlton Price, Houston, Texas, Court of Federal Claims Number 03-2520V

136. Alice Achieng on behalf of Tevin Moro, Houston, Texas, Court of Federal Claims Number 03-2521V

137. Charlene Sawyer, Kettering, Ohio, Court of Federal Claims Number 03-2524V

138. Denise McKenna on behalf of Camryn J. McKenna, Deceased, Boston, Massachusetts, Court of Federal Claims Number 03-2525V

139. Janine Dykstra on behalf of Derek Allan Dykstra, Deceased, Ventura, California, Court of Federal Claims Number 03-2612V

140. Dana and John Sharp on behalf of Austin Michael Sharp, Temecula, California, Court of Federal Claims Number 03-2613V

141. Christine and Joseph Wysocki on behalf of Adam Christopher Wysocki, Temecula, California, Court of Federal Claims Number 03-2614V

142. Janie and Dean Revier on behalf of Dallan Ray Revier, Olivia, Minnesota, Court of Federal Claims Number 03-2615V

143. Kimberly and Christopher Bostick on behalf of Christopher Deavin Bostick, Canton, Georgia, Court of Federal Claims Number 03-2616V

144. Anne Marie and Matthew Yagonczak on behalf of Collin Yagonczak, Houston, Texas, Court of Federal Claims Number 03-2617V

145. Diane Ventimiglia on behalf of Vincenzo Ventimiglia, Issaquah, Washington, Court of Federal Claims Number 03-2618V

146. Kerri Speights on behalf of Tyler Speights, Aubrey, Texas, Court of Federal Claims Number 03-2619V

147. Gloria and Glen Yerich on behalf of Kevin Yerich, Melbourne, Florida, Court of Federal Claims Number 03-2620V

148. Irene Ramirez on behalf of Carlos Daniel Rivera, Atlanta, Georgia, Court of Federal Claims Number 03-2628V

149. Melinda and Patrick Hiles on behalf of Luke Richard Hiles, Indianapolis, Indiana, Court of Federal Claims Number 03-2629V

150. Heather Summers-Webb and Eric Webb on behalf of Sandra Webb, Chicago, Illinois, Court of Federal Claims Number 03-2631V

151. Deborah White on behalf of Xavier Deshad Baldwin, Houston, Texas, Court of Federal Claims Number 03-2632V

152. Deanne Lee on behalf of Titus Lee, Houston, Texas, Court of Federal Claims Number 03-2633V

153. Lisa and Johnny Horton on behalf of Justin Horton, Houston, Texas, Court of Federal Claims Number 03-2634V

154. Wanda Lafayette on behalf of Javis Lafayette, Houston, Texas, Court of Federal Claims Number 03-2635V

155. Valerie and Thomas Bradley on behalf of Thomas Bradley, Houston, Texas, Court of Federal Claims Number 03-2636V

156. Paula Lewis on behalf of Jarquis Lewis, Houston, Texas, Court of Federal Claims Number 03-2637V

157. Tewana Johnson on behalf of Nikeara Hinton, Houston, Texas, Court of Federal Claims Number 03-2638V

158. Kimberly Mitchell on behalf of Kelvin Mitchell, Houston, Texas, Court of Federal Claims Number 03-2639V

159. Lisa and Douglas Nelson on behalf of Kameron M. Nelson, Houston, Texas, Court of Federal Claims Number 03-2640V

160. Jason Taylor on behalf of Jacob Taylor, Houston, Texas, Court of Federal Claims Number 03-2641V

161. Tewana Johnson on behalf of Troy Johnson, Houston, Texas, Court of Federal Claims Number 03-2642V

162. Terri Schuldt on behalf of Sarah Schuldt, Boston, Massachusetts, Court of Federal Claims Number 03-2643V

163. Teresa Tucker on behalf of Payton Tucker, Houston, Texas, Court of Federal Claims Number 03-2646V

164. Holly and Mark Batsford on behalf of Cameron M. Batsford, Temecula, California, Court of Federal Claims Number 03-2647V

165. Kimberly Schneider on behalf of Troy Schneider, Lake Forest, California, Court of Federal Claims Number 03-2648V

166. Tiana and Ward Boyd on behalf of Xela Rebecca Boyd, Sierra Vista, Arizona, Court of Federal Claims Number 03-2649V

167. Sarah Rosengren on behalf of Sam Rosengren, Bala Cynwyd, Pennsylvania, Court of Federal Claims Number 03-2650V

168. Heather and Donovan Hoover on behalf of Trenton Hoover, Dallas, Texas, Court of Federal Claims Number 03-2651V

169. Steven Weisbond on behalf of Jay Weisbond, Bala Cynwyd, Pennsylvania, Court of Federal Claims Number 03-2652V

170. Jennifer and Russell Maza on behalf of Jordan Dean Maza, Staten Island, New York, Court of Federal Claims Number 03-2653V

171. Paul Joseph and Amanda Kay Elliott on behalf of Trent Michael Elliott, Houston, Texas, Court of Federal Claims Number 03-2656V

172. Beau Bradley and Patricia Jean Bryant on behalf of Joseph Paul Bryant, Houston, Texas, Court of Federal Claims Number 03-2657V

173. Amy and David Green on behalf of Michael Watson Green, Stockbridge, Georgia, Court of Federal Claims Number 03-2658V

174. Merry Beth and Keith Kennedy on behalf of Konner Kennedy, Claxton, Georgia, Court of Federal Claims Number 03-2660V

175. Carrie and Joseph Costa on behalf of Hannah Costa, Vienna, Virginia, Court of Federal Claims Number 03-2661V

176. Mia and Tim McNary on behalf of Colin McNary, Vienna, Virginia, Court of Federal Claims Number 03-2662V

177. Michelle and Philip Edwards on behalf of John Edwards, Wyomissing, Pennsylvania, Court of Federal Claims Number 03-2664V

178. Shauna and Gregg Steffen on behalf of Gregg Steffen, Jr., Houston, Texas, Court of Federal Claims Number 03-2668V

179. Irene Ruby Ramirez on behalf of Regan Danielle Ramirez, Houston, Texas, Court of Federal Claims Number 03-2675V

180. Elizabeth and Joseph Acree on behalf of Joseph Bryan Acree, Houston, Texas, Court of Federal Claims Number 03-2676V

181. Tracy and Guy Sas on behalf of Jonathan Lyons Sas, Melbourne, Florida, Court of Federal Claims Number 03-2677V

182. Rebecca and John Reno on behalf of Chad Reno, Washington, District of Columbia, Court of Federal Claims Number 03-2678V

183. April and Patrick Heuer on behalf of Matthew Heuer, Dallas, Texas, Court of Federal Claims Number 03-2679V

184. Therese and John Minni on behalf of Paris Minni, Dallas, Texas, Court of Federal Claims Number 03-2680V

185. Susan Dunn on behalf of Sheridan Dunn, Boston, Massachusetts, Court of Federal Claims Number 03-2681V

186. Lynda Capoccia on behalf of Zachary Capoccia, Boston, Massachusetts, Court of Federal Claims Number 03-2682V

187. Engracia Gutstadt on behalf of Amber Gutstadt, Margate, Florida, Court of Federal Claims Number 03-2683V

188. Mary and Troy Petersen on behalf of Theodore Petersen, Dallas, Texas, Court of Federal Claims Number 03-2685V

189. Janet Zale on behalf of Christine Zale, Bedford, New Hampshire, Court of Federal Claims Number 03-2686V

190. Karen Rizzo on behalf of Antonio Rizzo, Swededboro, New Jersey, Court of Federal Claims Number 03-2687V

191. Ann Hatcher on behalf of Fredina Hatcher, Houston, Texas, Court of Federal Claims Number 03-2693V

192. Melicia Boose on behalf of Ja'Colby Boose, Houston, Texas, Court of Federal Claims Number 03-2694V

193. Rebeca Webb on behalf of Taylor Robinson, Houston, Texas, Court of Federal Claims Number 03-2695V

194. Florence Olatunbosun on behalf of Seyi Bankole, Lanham, Maryland, Court of Federal Claims Number 03-2696V

195. Robby Stuart on behalf of Coby Bunn Stuart, Deceased, Griffin, Georgia, Court of Federal Claims Number 03-2697V

196. Heather Crews on behalf of Sydney Crews, Dayton, Ohio, Court of Federal Claims Number 03-2700V

197. Shelly LaFleur on behalf of Chasity Sonnier, New Orleans, Louisiana, Court of Federal Claims Number 03-2701V

198. The Reverend John M. Young, Webster, New York, Court of Federal Claims Number 03-2702V

199. Deborah and Charley West on behalf of Charley West, IV, Houston, Texas, Court of Federal Claims Number 03-2705V

200. Ann and Kevin Madsen on behalf of Nicholas Madsen, Houston, Texas, Court of Federal Claims Number 03-2706V

201. Myra and Scott Robinson on behalf of William Robinson, Houston, Texas, Court of Federal Claims Number 03-2707V

202. Rachel and Robert Ross on behalf of Benjamin Ross, Houston, Texas, Court of Federal Claims Number 03-2708V

203. Shawna and Rand Sarver on behalf of Ryan Sarver, Houston, Texas, Court of Federal Claims Number 03-2709V

204. Cary Ann Bennett on behalf of Zachary Scraver, Houston, Texas, Court of Federal Claims Number 03-2710V

205. Rebecca and Michael Hohe on behalf of Caroline Hohe, Houston, Texas, Court of Federal Claims Number 03-2711V

206. Carolyn and Marcelo Ferrari on behalf of Stefan Ferrari, Houston, Texas, Court of Federal Claims Number 03-2712V

207. Susan and James Wiles on behalf of Blake Wiles, Houston, Texas, Court of Federal Claims Number 03-2713V

208. James Bumbaugh on behalf of Jaxon Bumbaugh, Boston, Massachusetts, Court of Federal Claims Number 03-2715V

209. Ellen Hill on behalf of Kyle Hill, Boston, Massachusetts, Court of Federal Claims Number 03-2716V

210. Mark Woodsmall on behalf of Andrew Woodsmall, Portland, Oregon, Court of Federal Claims Number 03-2717V

211. Jane and Wallace Sparks on behalf of Shane Sparks, Portland, Oregon, Court of Federal Claims Number 03-2718V

212. Seann Colgan on behalf of Samuel Colgan, Portland, Oregon, Court of Federal Claims Number 03-2719V

213. Deborah Mielewski and Kevin Ellwood on behalf of Tate Ellwood-Mielewski, Dallas, Texas, Court of Federal Claims Number 03-2720V

214. Linda Peak on behalf of Cody Peak, Hattiesburg, Mississippi, Court of Federal Claims Number 03-2721V

215. Teri Spiers on behalf of Jason Babington, Flowood, Mississippi, Court of Federal Claims Number 03-2722V

216. Deneiece Rushing on behalf of Somer Rushing, Hattiesburg, Mississippi, Court of Federal Claims Number 03-2723V

217. Doris Thomas Jackson on behalf of Rakeem Mathis, Clarksdale, Mississippi, Court of Federal Claims Number 03-2724V

218. Lisa Kay Schmittling on behalf of Sterling Schmittling, Laurel, Mississippi, Court of Federal Claims Number 03-2725V

219. Linda Gibson on behalf of Aaron Gibson, Jackson, Mississippi, Court of Federal Claims Number 03-2726V

220. Chandrika Watts on behalf of Kevaughn Bowie, Greenville, Mississippi, Court of Federal Claims Number 03-2727V

221. Brenda McMurtry on behalf of Kenneth Billingslea, Canton, Mississippi, Court of Federal Claims Number 03-2728V

222. Tina Martin on behalf of Demarcus Martin, Jacksonville, Florida, Court of Federal Claims Number 03-2729V

223. Sheila Leonard on behalf of Richard Leonard, Hattiesburg, Mississippi, Court of Federal Claims Number 03-2730V

224. Willys G. Smith on behalf of Clark Smith, Hattiesburg, Mississippi, Court of Federal Claims Number 03-2731V

225. Heather Revelis on behalf of Frank A. Revelis, III, Dallas, Texas, Court of Federal Claims Number 03-2732V

226. Holly and Mark Blackburn on behalf of Mitchell Blackburn, Fort Worth, Texas, Court of Federal Claims Number 03-2733V

227. Kassie Brown-Carter on behalf of Christopher Carter, Greenwood, Mississippi, Court of Federal Claims Number 03-2734V

228. Vera Ray on behalf of Teresa Ray, Greenwood, Mississippi, Court of Federal Claims Number 03-2735V

229. Patricia Sanders on behalf of Devonte Sanders, Jackson, Mississippi, Court of Federal Claims Number 03-2736V

230. Ellen and Prentiss Guyton on behalf of Kenneth Guyton, Jackson, Mississippi, Court of Federal Claims Number 03-2737V

231. Vanessa Hutchenson on behalf of Felicia Hutchenson, Greenville, Mississippi, Court of Federal Claims Number 03-2738V

232. Lynn Morris on behalf of Mason Morris, Hattiesburg, Mississippi, Court of Federal Claims Number 03-2739V

233. Pearle King on behalf of Veronica Jones, Cleveland, Mississippi, Court of Federal Claims Number 03-2740V

234. Lisa Crain on behalf of Leila Crain, Jackson, Mississippi, Court of Federal Claims Number 03-2741V

235. Sheila Gowdy Watson on behalf of Sequency Gowdy, Jackson, Mississippi, Court of Federal Claims Number 03-2742V

236. Hazel Townsend on behalf of Shemika Townsend, Indianola, Mississippi, Court of Federal Claims Number 03-2743V

237. George Jean Carr on behalf of Walter Jones, Jackson, Mississippi, Court of Federal Claims Number 03-2744V

238. Felicia Keys on behalf of Shiron Myers, Hattiesburg, Mississippi, Court of Federal Claims Number 03-2745V

239. Sandra Kolankiewicz and Robert Brawley on behalf of Trevor Brawley, Houston, Texas, Court of Federal Claims Number 03-2749V

240. Melinda and Taj Riojas on behalf of Matthew Riojas, Houston, Texas, Court of Federal Claims Number 03-2750V

241. Wyldn Pearson, Salt Lake City, Utah, Court of Federal Claims Number 03-2751V

242. Dale Krenik on behalf of Valen Krenik, Vienna, Virginia, Court of Federal Claims Number 03-2755V

243. Natalie Evans on behalf of Luke Alexander Evans, Deceased, Lake County, Indiana, Court of Federal Claims Number 03-2756V

244. Melonie and William Bailey on behalf of William Bailey, Houston, Texas, Court of Federal Claims Number 03-2757V

245. Nicole Carsell and Ron Lee Miller on behalf of Jalen Laron Miller, Houston, Texas, Court of Federal Claims Number 03-2758V

246. Denise and Frank Miller on behalf of Blake Miller, Bala Cynwyd, Pennsylvania, Court of Federal Claims Number 03-2759V

247. Autumn Ahlgrem on behalf of Jacob Ahlgrem, Somers Point, New Jersey, Court of Federal Claims Number 03-2760V

248. Patricia and Philip Carroll on behalf of Sean T. Carroll, Vienna, Virginia, Court of Federal Claims Number 03-2765V

249. Emlyn and David Riggle on behalf of Evan Riggle, Vienna, Virginia, Court of Federal Claims Number 03-2766V

250. Rhonda Sango, nka Rhonda Tubbs, Cincinnati, Ohio, Court of Federal Claims Number 03-2770V

251. Jennifer and John Gilmore on behalf of Luke Gilmore, Lake Success, New York, Court of Federal Claims Number 03-2775V

252. Melissa and J. Craig Belser on behalf of Zachary R. Belser, Alexandria, Virginia, Court of Federal Claims Number 03-2778V

253. Leigh and Kelly Depiazza on behalf of Alexander E. Depiazza, Alexandria, Virginia, Court of Federal Claims Number 03-2779V

254. Ephie and Chris Jackson on behalf of Christopher Jackson, Alexandria, Virginia, Court of Federal Claims Number 03-2780V

255. Beverlee and Jeffrey Peters on behalf of Ashley Peters, Houston, Texas, Court of Federal Claims Number 03-2781V

256. Nicole Driver on behalf of Sha'Tequa Key'Vion Driver, Decatur, Texas, Court of Federal Claims Number 03-2782V

257. Shelley and Rex Brandt on behalf of Ethan R. Brandt, Alexandria, Virginia, Court of Federal Claims Number 03-2784V

258. Tammy and Charles Jones on behalf of Travis Jones, Vienna, Virginia, Court of Federal Claims Number 03-2785V

259. Christal and Matthew Boesen on behalf of Zachary Boesen, Vienna, Virginia, Court of Federal Claims Number 03-2786V

260. Stephanie Hidalgo on behalf of Adam Cade Hidalgo, Deceased , Bossier City, Louisiana, Court of Federal Claims Number 03-2787V

261. Claires and Paul Shimer on behalf of Jordan M. Shimer, Houston, Texas, Court of Federal Claims Number 03-2791V

262. Marcos A. Gonzalez, Sr. on behalf of Marcos A. Gonzalez, Jr., Houston, Texas, Court of Federal Claims Number 03-2792V

263. Michelle and Robert Redfoot on behalf of Alexander Redfoot, San Diego, California, Court of Federal Claims Number 03-2801V

264. Melissa Gorman on behalf of Jullian Gorman, Somers Point, New Jersey, Court of Federal Claims Number 03-2806V

265. Joy Roseman on behalf of James Alec Roseman, Somers Point, New Jersey, Court of Federal Claims Number 03-2807V

266. Lucy and Michael Blake on behalf of Rachel Blake, Van Nuys, California, Court of Federal Claims Number 03-2808V

267. Laura and Trevor Fletcher on behalf of Alexandra Fletcher, Groton, Connecticut, Court of Federal Claims Number 03-2810V

268. Steve Golliher on behalf of Luke Golliher, Oakdale, California, Court of Federal Claims Number 03-2812V

269. Holly and Patrick Macaulay on behalf of Sean Macaulay, Vienna, Virginia, Court of Federal Claims Number 03-2813V

270. Ana and Christopher Castner on behalf of David Brenden Castner, Bala Cynwyd, Pennsylvania, Court of Federal Claims Number 03-2814V

271. Ernestina and Manuel Hernandez on behalf of Gabrielle Hernandez, Bala Cynwyd, Pennsylvania, Court of Federal Claims Number 03-2815V

272. David Taylor on behalf of Davey Taylor, Houston, Texas, Court of Federal Claims Number 03-2816V

273. Anne and Darren Tucker on behalf of Ethan Joseph Tucker, Bethesda, Maryland, Court of Federal Claims Number 03-2818V

274. Anne and Darren Tucker on behalf of Andrew Michael Tucker, Bethesda, Maryland, Court of Federal Claims Number 03-2819V

275. Harry Tembenis on behalf of Elias Tembenis, Boston, Massachusetts, Court of Federal Claims Number 03-2820V

276. Vicki Gale on behalf of Seth Gale, Portland, Oregon, Court of Federal Claims Number 03-2821V

277. Angela and Darrell Foy on behalf of Nicholas Foy, New York, New York, Court of Federal Claims Number 03-2826V

278. Kristina Dickerson on behalf of Christopher Holleman, New York, New York, Court of Federal Claims Number 03-2827V

279. Shannon and Jason Robinson on behalf of Cody Robinson, New York, New York, Court of Federal Claims Number 03-2828V

280. Angie and Clint Ward on behalf of Devin Ward, New York, New York, Court of Federal Claims Number 03-2829V

281. Melanie and Mark Wax on behalf of Andrew Wax, New York, New York, Court of Federal Claims Number 03-2830V

282. Jill and Rob MacKay on behalf of Alec Andrew MacKay, Houston, Texas, Court of Federal Claims Number 03-2833V

283. George Daily, Montvale, New Jersey, Court of Federal Claims Number 03-2834V

284. Cindy and Edward Bubar on behalf of Sara Caitlyn Bubar, Pensacola, Florida, Court of Federal Claims Number 03-2837V

285. Cayanne Elmas and Said Kheir on behalf of Benjamin Kheir, Houston, Texas, Court of Federal Claims Number 03-2838V

286. Bj and Haywood Prejean on behalf of Hope Prejean, Huntington, Vermont, Court of Federal Claims Number 03-2839V

287. Regina and Gregory Harris on behalf of Madalyn Harris, Melbourne, Florida, Court of Federal Claims Number 03-2841V

288. Lekesha Slaughter on behalf of Terry Bennett, Houston, Texas, Court of Federal Claims Number 03-2846V

289. Carol Killmaier on behalf of Stephen Andrew Budko, Bala Cynwyd, Pennsylvania, Court of Federal Claims Number 03-2849V

290. Jacqueline and Paul Martinez on behalf of Paul Charles Martinez, Jr., Bala Cynwyd, Pennsylvania, Court of Federal Claims Number 03-2850V

291. Elizabeth Wright on behalf of Jacob Wright, Boston, Massachusetts, Court of Federal Claims Number 03-2851V

292. Elizabeth Gill on behalf of Cavon Terrell, Boston, Massachusetts, Court of Federal Claims Number 03-2852V

293. William Wallace on behalf of Hunter Wallace, Boston, Massachusetts, Court of Federal Claims Number 03-2853V

294. Mary Brown-Brooks on behalf of Tennia Brooks, Alexandria, Virginia, Court of Federal Claims Number 03-2854V

295. Lynette Johnson on behalf of Marcus Harris, Alexandria, Virginia, Court of Federal Claims Number 03-2855V

296. Charlene Jefferson on behalf of Taylor Jefferson, Alexandria, Virginia, Court of Federal Claims Number 03-2856V

297. Nancy and Dan Ledoux on behalf of Nicole Ledoux, Alexandria, Virginia, Court of Federal Claims Number 03-2857V

298. Cynthia and Dwight Wilkerson on behalf of John Wilkerson, Westfield, Indiana, Court of Federal Claims Number 03-2860V

299. David Gray on behalf of Ashley Gray, Bala Cynwyd, Pennsylvania, Court of Federal Claims Number 03-2864V

300. Lora D. and James R. Brewer on behalf of James D. Brewer, Huntington, Vermont, Court of Federal Claims Number 03-2865V

301. Kellie Smith on behalf of Jason Smith, Bala Cynwyd, Pennsylvania, Court of Federal Claims Number 03-2866V

302. Kelley A. O'Sullivan-McColgan and John M. McColgan on behalf of Kevin Francis McColgan, New York, New York, Court of Federal Claims Number 03-2870V

303. Deborah Umphries on behalf of Timothy Umphries, Boston, Massachusetts, Court of Federal Claims Number 03-2872V

304. Marie Louise and Stephen Moriarty on behalf of Eilise Moriarty, Vienna, Virginia, Court of Federal Claims Number 03-2876V

305. Anja K. and Jay A. Bouchard on behalf of Austin John Bouchard, New York, New York, Court of Federal Claims Number 03-2879V

306. DeAnna and George Wright on behalf of Lane Elliot Wright, Deceased, Boise, Idaho, Court of Federal Claims Number 03-2880V

Dated: April 27, 2004.
Elizabeth M. Duke,
Administrator.

[FR Doc. 04-9972 Filed 4-30-04; 8:45 am]

BILLING CODE 4165-15-P